ENVIRONMENTAL PROTECTION AGENCY

[FRL-8545-7]

Comprehensive Environmental Response, Compensation and Liability Act (CERCLA) or Superfund, Brownfields Amendments, Section 104(k); Notice of Revisions to FY2009 Guidelines for Brownfields Assessment, Cleanup and Revolving Loan Fund Grants

AGENCY: Environmental Protection Agency.

ACTION: Notice.

SUMMARY: Section 104(k)(5)(A)(iii) of the Comprehensive Environmental Response, Compensation and Liability Act (CERCLA) requires the U.S. Environmental Protection Agency (EPA) to publish guidance to assist applicants in preparing proposals for grants to assess and clean up brownfield sites. EPA's Brownfields Program provides funds to empower states, communities, tribes and nonprofits to prevent, inventory, assess, clean up and reuse brownfield sites. In FY2009 EPA has revised the Brownfields Grant Proposal Guidelines (guidelines) and is soliciting comments on those revisions. EPA provides brownfields funding for three types of grants: assessment, revolving loan fund and cleanup. The major changes to the guidelines include: three separate booklets for each of the grant types; Assessment Coalitions which allow eligible entities of 3 or more to request up to $1 M dollars for hazardous substance or petroleum (or combined) community-wide assessments; ranking criteria based on a total score of 100; Community Notification is a threshold criterion; ranking criteria is four sections: Community Need, Project Feasibility, Community Engagement and Project Benefits; community based organization letters of support are required; and a Phase II report complete at time of application for a cleanup grant is required.

DATES: Publication of this notice will start a ten working day comment period on revisions to the FY2009 Brownfields Grant Guidelines. Comments will be accepted through April 7, 2008. EPA expects to release a Request for Proposals based on these revised guidelines in late summer of 2008.

ADDRESSES: The draft guidelines can be downloaded at: http://www.epa.gov/brownfields/. If you do not have internet access and require hard copies of the draft guidelines please contact Megan Quinn at (202) 566-2773. Please send any comments to Megan Quinn at Quinn.Megan@epa.gov no later than April 7, 2008.

FOR FURTHER INFORMATION CONTACT: The U.S. EPA's Office of Solid Waste and Emergency Response, Office of Brownfields and Land Revitalization, (202) 566-2777.

SUPPLEMENTARY INFORMATION: Comments will be accepted through April 7, 2008. Please note that in accordance with 5 U.S.C. 553(a)(2) EPA is not undertaking notice and comment rulemaking and has not established a docket to receive public comments on the guidelines. Rather, the Agency as a matter of policy is soliciting the views of interested parties on proposed changes to the guidelines in an effort to make the guidelines as responsive as possible to the needs of the public. Please note that these draft guidelines are subject to change. Organizations interested in applying for Brownfields funding must follow the instructions contained in the final guidelines that EPA publishes on grants.gov, rather than these draft guidelines.

There are three types of grants applicants may apply for under these guidelines:

1. Brownfields Assessment Grants—provide funds to inventory, characterize, assess, and conduct cleanup and redevelopment planning and community involvement related to brownfield sites.

2. Brownfields Revolving Loan Fund Grants—provide funding for a grant recipient to capitalize a revolving loan fund and to provide subgrants to carry out cleanup activities at brownfield sites.

3. Brownfields Cleanup Grants—provide funds to carry out cleanup activities at a specific brownfield site owned by the applicant.

The Catalogue of Federal Domestic Assistance entry for Brownfields Grants is 66.818.

Dated: March 12, 2008.
David R. Lloyd,
Director, Office of Brownfields and Land Revitalization, Office of Solid Waste and Emergency Response.

[FR Doc. E8-5880 Filed 3-21-08; 8:45 am]

BILLING CODE 6560-50-P